DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology.

Title: NIST Center for Neutron Research (NCNR) Information Management System Collection.

OMB Control Number: 0693-XXXX.

Form Number(s): None (new submission).

Type of Request: Regular.

Number of Respondents: 2,000.

Average Hours per Response: 1 hour.

Burden Hours: 2,000.

Needs and Uses: Registration of NCNR users; Collection of scientific experiment proposals; Regularly scheduled peer review of said proposals; Merit-based award of available experimental resources; Experiment date scheduling for selected projects (instrument scheduling); Collection and management of data required by the NCNR site access protocol; Managing the Health Physics training of arriving scientists; Coordination of administrative data; Collection of data in support of related activities such as NCNR Summer School for facility users; Management of the research results such as collected data, and subsequent publications; Numerous reporting functions used to evaluate and manage the NCNR activities.

Affected Public: Scientific personnel using NCNR facility.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-14590 Filed 7-6-18; 8:45 am]

BILLING CODE 3510-13-P